NATIONAL SCIENCE FOUNDATION

Notice of Permit Application Received Under the Antarctic Conservation Act of 1978

AGENCY: National Science Foundation.

ACTION: Notice of permit applications received under the Antarctic Conservation Act.

SUMMARY: Notice is hereby given that the National Science Foundation (NSF) has received a waste management permit application for continued operation of a small research camp at Cape Shirreff, Livingston Island, Antarctica, by Dr. Rennie S. Holt, a citizen of the United States. The application is submitted to NSF pursuant to regulations issued under the Antarctic Conservation Act of 1978.

DATES: Interested parties are invited to submit written data, comments, or views with respect to this permit application by June 19, 2006. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for the continued operation of a small remote research camp at Cape Shirreff, Livingston Island, Antarctica (62°28′07″S, 60°46′10″W), for another five years to continue predator-prey studies initiated in 1996 at the site. The permit period requested is from October 15, 2006 to April 15, 2011. Cape Shirreff is an ice-free peninsula towards the western end of the north coast of Livingston Island, and is designated an Antarctic Specially Protected Area No. 149 under the Antarctic Treaty. The camp consists of approximately four semi-permanent structures containing work, living, and storage spaces. During the field season from early September through the end of March of each year, four to six scientists will utilize the camp.

The permit applicant is: Dr. Rennie S. Holt, Director, U.S. AMLR Program, Southwest Fisheries Science Center, National Marine Fisheries Service, 8604 La Jolla Shores Drive, La Jolla, CA 92038.

Polly A. Penhale,
Environmental Officer.

[FR Doc. 06-4688 Filed 5-18-06; 8:45am]

BILLING CODE 7555-01-M